DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: BISNIS Publication Subscription Form.

Agency Form Number: N/A.

OMB Number: 0625-0236.

Type of Request: Regular Submission.

Burden: 170.

Number of Respondents: 2,000.

Avg. Hours Per Response: 5 minutes.

Needs and Uses: The International Trade Administration's (ITA) Business Information Service for the Newly Independent States (BISNIS) offers business intelligence and counseling to U.S. companies seeking to export or to invest in the countries of the Former Soviet Union. A critical component of the program is the dissemination of information regarding market conditions and opportunities in various industries and countries of the former Soviet Union. These information products provided by BISNIS are in the form of e-mails, faxes, and paper mailers. The Publication Subscription Form is a quick way for interested parties to tell BISNIS which products they want and their industry and country interests.

Affected Public: Business or other for-profits.

Frequency: On Occasion.

Respondent's Obligation: Required to obtain or retain a benefit, voluntary.

OMB Desk Officer: David Rostker, (202) 395-7340.

Copies of the above information collection proposal can be obtained by calling or writing Diana Hynek, Departmental Paperwork Clearance Officer, (202) 482-0266, Department of Commerce, Room 6625, 14th and Constitution, NW., Washington, DC 20230. Email: dHynek@doc.gov.

Written comments and recommendations for the proposed information collection should be sent to David Rostker, OMB Desk Officer, David_Rostker@omb.eop.gov or fax at (202) 395-7285 within 30 days of publication of this Federal Register notice.

Dated: October 20, 2005.
Madeleine Clayton,
Management Analyst, Office of the Chief Information Officer.

[FR Doc. 05-21328 Filed 10-25-05; 8:45 am]

BILLING CODE 3510-FP-P